DEPARTMENT OF THE TREASURY

Customs Service

[T.D. 01-48]

Cancellation of Customs Broker Licenses

AGENCY: U.S. Customs Service, Department of the Treasury.

ACTION: Cancellation of licenses.

SUMMARY: Notice is hereby given that, pursuant to 19 CFR 111.51(a), the following Customs broker licenses have been cancelled due to death of the broker. Because previous publication of some records cannot be readily verified, the records are now being published to ensure Customs compliance with administrative requirements.

Last name | First name | License | Port name
Acosta | Joseph | 05054 | New Orleans
Alvarez | Leopold | 05642 | New York
Ambrosino | Louis | 02384 | New York
Angel | Roland | 04325 | New York
Aniades | Kathie | 06024 | New York
Arnold | Edward | 02231 | New York
Auger | Willard C. | 01161 | San Francisco
Baco | George | 03920 | New York
Balog | Ranko | 04223 | Los Angeles
Barnhart | James A. | 03605 | Los Angeles
Barreca | Frank Guy | 02271 | New York
Barry | Francis J. | 01689 | New York
Barton | Russell A. | 05548 | New York
Bauer | Frederick M. | 00798 | New York
Bellingall | R.R. | 00015 | San Francisco
Bernstein | Mortimer B. | 02133 | New York
Bonelli | John C. | 03853 | New York
Brady | Bernard F. | 02030 | New York
Braeuner | Curt A. H. | 01277 | New York
Brandt | Charles P. | 02372 | New York
Brickmeier | Charles Arthur | 02806 | New York
Brisco | Willem D. | 06074 | New York
Brtka | Paul B. | 06100 | Los Angeles
Burghart | Anton | 02953 | New York
Burin | Alfred | ¹ | New York
Campbell | Vincent J. | 02226 | New York
Capaldo | Pasqual Francis | 01615 | New York
Carr | Harold J. | 02068 | New York
Cary | William S. | ² | New York
Chierchio | Vincent J. | 03741 | New York
Chin | Edward Q. | 12351 | New York
Christophides | George D. | 00828 | New York
Cohen | Seymour J. | 03561 | New York
Colligan | John Thomas | 02526 | New York
Comer | Edward D. | 02118 | New York
Conroy, Jr. | Patrick J. | 02530 | New York
Conte | Vincent Anthony | 03438 | New York
Conte | Adrian N. | 02417 | New York
Coogan | Joseph Herbert | 03488 | New York
Coscette | Thomas G. | 06489 | New York
Cox | Henry R. | 01284 | New York
Crowley | Thomas J. | 03331 | San Francisco
Dalldorf | Charles H. | 01121 | New York
Dante | Emil J. | 01648 | New York
Davis | Walter S. | 02203 | New York
DiSalvio | William | 01693 | New York
Dworkin | Hyman | 01164 | New York
Farrell | James J. | 01537 | New York
Farrell | Francis J. | 02190 | New York
Farrell | James F. | 01465 | New York
Fazio | Virginia | 10722 | New York
Feig | Frederick Jack | 03528 | New York
Ferlazzo | Chester | 03428 | New York
Ferraioli | Antonio | 02194 | New York
Fettkether | Michael Kenneth | 09391 | Los Angeles
Figueira | Anna V. | 02509 | New York
Fischer | Alvin L. | 04370 | New York
Fleisig | Jacob P. | 01673 | New York
Floyd | Raymond H. | 01619 | New York
Ford | Robert E. | 02746 | San Francisco
Frater | George Z. | 00903 | New York
Galaviz | Armando | 02427 | San Francisco
Gamburg | Joseph | 02089 | New York
Ganley | Bernard J. | 02917 | New York
Garcia | Joseph M. | 03393 | New York
Gelb | Morris | 02186 | New York
Gelber | Paul E. | 05911 | New York
Gladish | Stephen | 03533 | Seattle
Gloss | Frederick W. | 01649 | New York
Grieve | David E. | 02910 | New York
Grose | John N. D. | 01769 | New York
Guerringue | Milton C. | 01598 | New York
Haag | Harlan Nelson | 02904 | New York
Halperin | Louis | 01061 | New York
Hand | Dolores | 06320 | Los Angeles
Hauser | William | 02208 | New York
Hauser | David | 01155 | New York
Hayes | John J. | 01521 | New York
Hechtman | Harry E. | 01458 | New York
Heidl | Francis X. | 01157 | New York
Helstrom | George | 03783 | New York
Henry | Joseph M. | 02290 | New York
Hinchey | Linda M. | 09075 | Seattle
Hoban | James A. | 02111 | New York
Hornkohl | William H. | 02058 | New York
Hult | Frank A. | 01631 | New York
Ippolito | Gary F. | 06807 | New York
James | John S. | 05260 | Tampa
Jasper | John R. | 02166 | New York
Jensen | A.C. | 07619 | New York
Johnson | Rudolph E. | 04567 | Minneapolis
Jordan | Salvatore | 01705 | New York
Juede | Herbert A. | 01523 | New York
Juliano | Nicholas R. | 02507 | New York
Kaplan | Stanley | 02551 | New York
Kenny | William A. | 00717 | New York
Kerner | Richard M. | 12301 | New York
Kerner | Martin A. | 01638 | New York
Kerner | Martin E. | 02493 | New York
Kilbane | Sherry A. | 10963 | Charleston
Klingman | John | 04255 | New York
Klopsis | Nicholas | 03240 | New York
Knight | Frank J. | 03663 | Tampa
Krieger | Norman | 02606 | New York
Kunz | Francis L. | 04115 | New York
Lam | Michael T.S. | 05691 | Honolulu
Lam | Sun Jing | 02088 | Honolulu
Lawler | Daniel A. | 05357 | New York
Lee | Thomas J. | 01219 | New York
Leitch | John G. | 10757 | Los Angeles
Lingen | Fred W. | 01853 | New York
Lisa | Thomas G. | 02164 | New York
Lockwood | Harold R. | 04738 | El Paso
LoCurto | Melchior | 04477 | New York
Lombardi | Joseph F. | 04252 | New York
Manly | Winslow | 01334 | New York
Marshall | Louis | 01551 | New York
Marzolf | Alfred H. | 00179 | Seattle
Mauriello | Louis | 03702 | New York
May | Donald | 02311 | Seattle
McCarty | John | 01506 | New York
McClary | Donald | 02708 | Seattle
McCormack | Frank J. | 04184 | New York
McGiffin, III | John Girvin | 04104 | Tampa
McGill, Jr. | William M. | 02549 | New York
McGrath | Gerald L. | 02440 | New York
McGuire | Peter T. | 02506 | New York
McTernan | James B. | 04700 | New York
Merrill | Coralie S | 06542 | Seattle
Moran | Harry M. | 02143 | New York
Murray | Edward S. | 01715 | New York
Natiello | Nicholas J. | 03482 | New York
Nelson | Arthur B. | 05217 | New York
Niethamer | Robert O. | 04381 | New York
Noens | Louis Jean | 12662 | New York
Orihuela | Hope | 03552 | Tampa
Palmer | Drew Ivan | 05183 | New York
Pancaldo | Jack F. | 01283 | New York
Parker | Darienne | 12755 | Charlotte
Parker | Arthur Blasdell | 04327 | Chicago
Penson | Jack A. | 01525 | New York
Perroncino | John S. | 05504 | New York
Phelps | William Arthur | 03626 | New York
Phillips | Arthur L. | 07330 | San Francisco
Pitre | Joseph A. | 00847 | New York
Poll | Otto P. | 03499 | New York
Potts | William T. | 14681 | Houston
Pullis | Alexander F. | 02362 | New York
Randazzo | Michael | 03093 | New York
Rex | Charles L. | ³ | New York
Ricci | Mario | 00788 | New York
Riviello | Dominic | 01934 | New York
Rizzo | Joseph | 02532 | New York
Roberts | Harry Owen | 03372 | Los Angeles
Roche | Mary | 10769 | New York
Rose | Philip B. | 03115 | New York
Royals | Percy S. | 01371 | New York
Salomone | Salvatore | 02545 | New York
Scatamacchia | Ralph | 03236 | New York
Scher | Isador | 02334 | New York
Schneider | Richard H | 05952 | Los Angeles
Sergi | Nicholas | 03247 | New York
Serra | John | 04107 | New York
Setariano | Joseph | 02462 | New York
Sheil | Joseph F. | 05040 | New York
Shenk | David Wesley | 04045 | Los Angeles
Sherriff | Charles H. | 00190 | Seattle
Shimabukuro | Sam T | 06776 | Seattle
Silvey | Max | 02852 | New York
Slavin | Myron B. | 03367 | New York
Smith | Albert W. | 04812 | Charlotte
Smith | Robert W. | 03356 | New Orleans
Snedeker | Lloyd | 02942 | New York
Sobel | Hyman | 02179 | New York
Spring | Gerald | 03146 | New York
Steiker | Lloyd S. | 02691 | New York
Stern | Harry | 01459 | New York
Swenson | John A. | 02280 | New York
Syage | George J. | 03879 | New York
Tabino | Robert | 03406 | New York
Thomas | Barbara | 07997 | New York
Tolonen | Clarence E. | 03593 | Seattle
VanSant | Richard M | 02671 | Seattle
Virgilio | Pasquale | 04404 | New York
Wahlstrom | Dale S. | 11121 | New York
Wegner | Donald F. | 02895 | New York
Wehman | Anthony G. | 02531 | New York
Werfelman | George H. | 00723 | New York
Wesnofske | Theodore P. | 09248 | New York
Wiltshire | Richard C. | 04385 | New York
Wohlrab | George Adam | 02421 | New York
Wood | Joseph B. | 01198 | New York
Wunner | John J. | 02385 | New York
Zimmer, III | Walter | 11727 | New York
¹ 00242A
² 00233A
³ 00191A

Dated: July 2, 2001.
John H. Heinrich,
Acting for Assistant Commissioner, Office of Field Operations.

[FR Doc. 01-16963 Filed 7-5-01; 8:45 am]

BILLING CODE 4820-02-P